FEDERAL DEPOSIT INSURANCE CORPORATION

Agency Information Collection Activities: Submission for OMB Review; Comment Request

AGENCY: Federal Deposit Insurance Corporation (FDIC).

ACTION: Notice of information collection to be submitted to OMB for review and approval under the Paperwork Reduction Act of 1995.

SUMMARY: In accordance with requirements of the Paperwork Reduction Act of 1995 (44 U.S.C. 3501 et seq.), the FDIC hereby gives notice that it plans to submit to the Office of Management and Budget (OMB) a request for OMB review and approval of the information collection system described below.

Type of Review: Renewal of a currently approved collection.

Title: Procedures for Monitoring Bank Protection Act Compliance.

OMB Number: 3064-0095.

Annual Burden:

Estimated annual number of respondents: 5,800.

Estimated time per response: ½ hour.

Average annual burden hours: 2,900 hours.

Expiration Date of OMB Clearance: June 30, 2000.

OMB Reviewer: Alexander T. Hunt, (202) 395-7860, Office of Management and Budget, Office of Information and Regulatory Affairs, Washington, DC 20503.

FDIC Contact: Tamara R. Manly, (202) 898-7453, Office of the Executive Secretary, Room F-4058, Federal Deposit Insurance Corporation, 550 17th Street NW, Washington, DC 20429.

Comments: Comments on this collection of information are welcome and should be submitted on or before June 21, 2000 to both the OMB reviewer and the FDIC contact listed above.

ADDRESSES: Information about this submission, including copies of the proposed collection of information, may be obtained by calling or writing the FDIC contact listed above.

SUPPLEMENTARY INFORMATION: The collection of information is used by FDIC bank examiners to assure that insured nonmember banks comply with 12 CFR Part 326 (Minimum Security Devices and Procedures for Insured Nonmember Banks), which implements the Bank Protection Act of 1968 and to review bank security programs.

Federal Deposit Insurance Corporation.
Robert E. Feldman,
Executive Secretary.

[FR Doc. 00-12730 Filed 5-19-00; 8:45 am]

BILLING CODE 6714-01-P